FEDERAL COMMUNICATIONS COMMISSION

47 CFR Parts 1 and 76

[FCC 07-115]

Interim Electronic Filing Procedures for Certain Commission Filings

AGENCY: Federal Communications Commission.

ACTION: Temporary rule; rescission.

SUMMARY: In this document, the Commission rescinds the procedures it adopted in 2001 on an emergency, interim basis to require the filing or re-filing of certain documents electronically (i.e., by facsimile or e-mail), by overnight delivery, or by hand delivery to the Commission's Capitol Heights, Maryland location. Filings will no longer be accepted by e-mail or facsimile, unless specifically authorized by the Commission's rules.

DATES: Effective September 25, 2007.

ADDRESSES: Federal Communications Commission, 445 12th St., SW., Washington, DC 20554.

FOR FURTHER INFORMATION CONTACT: Denise D. Walter, Mobility Division, Wireless Telecommunications Bureau at (202) 418-0620.

SUPPLEMENTARY INFORMATION: This is a summary of the Commission's Order; FCC 07-115, adopted June 18, 2007, and released June 20, 2007. The full text of this document is available for inspection and copying during normal business hours in the FCC Reference Center, 445 12th Street, SW., Washington, DC 20554. The complete text may be purchased from the Commission's copy contractor, Best Copy and Printing, Inc., 445 12th Street, SW., Room CY-B402, Washington, DC 20554. The full text may also be downloaded at: http://www.fcc.gov. Alternative formats are available to persons with disabilities by sending an e-mail to fcc504@fcc.gov or by calling the Consumer & Governmental Affairs Bureau at 202-418-0530 (voice), 202-418-0432 (tty).

Synopsis of the Order

By an Order published at 66 FR 62991, December 4, 2001, the Commission amended its procedural rules “on an emergency, interim basis” to permit certain pleadings (specifically, (i) Petitions to deny filed pursuant to section 309 of the Communications Act of 1934, as amended (Act), 47 U.S.C. 309; (ii) petitions for reconsideration filed pursuant to section 405 of the Act, 47 U.S.C. 405; (iii) applications for review filed pursuant to section 5(c)(4) of the Act, 47 U.S.C. 155(c)(4); (iv) informal requests for Commission action involving pending applications filed pursuant to § 1.41 of the Commission's rules, 47 CFR 1.41; (v) petitions to amend the TV and FM Broadcast Table of Allotments and responsive pleadings; and (vi) comments or oppositions to open video system certification made pursuant to § 76.1502(e)(1) of the Commission's rules, 47 CFR 76.1502(e)(1)) to be filed electronically (i.e., by facsimile or e-mail) “[u]ntil further notice.” It adopted these procedures in response to “recent emergency events in Washington, DC, resulting in the unforeseeable and understandable disruption of regular mail delivery and of the processing of other deliveries due to the threat of contamination,” i.e., the discovery of anthrax contamination on Capitol Hill and at certain U.S. Postal Service mail processing facilities, and the consequent delay in mail processing due to quarantine and cleansing procedures associated with the anthrax contamination. The Commission stated, “[T]hese emergency procedures are adopted on a temporary basis only, and will be discontinued when normal U.S. Mail delivery resumes.”

We note that mail delivery in the Washington, DC area has improved, and that the United States Postal Service has greatly reduced the delay in processing mail. We also note that the Commission has expanded it electronic filing capabilities, and implemented its own processes to combat the threat of contamination of incoming mail. Given these circumstances, we conclude that the interim electronic filing procedures adopted by the Commission in 2001 are no longer necessary. Accordingly, we rescind those procedures, effective ninety days after publication of this Order in the Federal Register. (This includes elimination of interim facsimile number 202-418-0187 and the following Office of the Secretary Bureau and Office e-mail addresses: MMBSecretary@fcc.gov; WTBSecretary@fcc.gov; CCBSecretary@fcc.gov; CSBSecretary@fcc.gov; IBSecretary@fcc.gov; EBSecretary@fcc.gov; OtherSecretary@fcc.gov.) Thereafter, filings will no longer be accepted by facsimile or e-mail, unless specifically authorized by the Commission's rules.

Pursuant to the authority of section 4(i) of the Communications Act of 1934, as amended, 47 U.S.C. 154(i), the interim electronic filing procedures adopted in Order FCC 01-345, at 66 FR 62991, December 4, 2001, are rescinded.

Federal Communications Commission.
Marlene H. Dortch,
Secretary.

[FR Doc. E7-12539 Filed 6-26-07; 8:45 am]

BILLING CODE 6712-01-P